DEPARTMENT OF THE TREASURY

Submission for OMB Review; Comment Request

February 7, 2011.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue, NW., Suite 11010, Washington, DC 20220.

DATES: Written comments should be received on or before March 14, 2011 to be assured of consideration.

Bureau of the Public Debt (BPD)

OMB Number: 1535-0117.

Type of Review: Revision of a currently approved collection.

Title: Resolution for Transactions Involving Treasury Securities.

Form: PDF 1010.

Abstract: Completed by an official of an organization that is designated to act on behalf of the organization.

Respondents: Private sector: Business or other for-profit.

Estimated Total Burden Hours: 235 hours.

Bureau Clearance Officer: Bruce Sharp, Bureau of the Public Debt, 200 Third Street, Parkersburg, West Virginia 26106; (304) 480-8112.

OMB Reviewer: Shagufta Ahmed, Office of Management and Budget, New Executive Office Building, Room 10235, Washington, DC 20503; (202) 395-7873.

Dawn D. Wolfgang,
Treasury PRA Clearance Officer.

[FR Doc. 2011-3134 Filed 2-10-11; 8:45 am]

BILLING CODE 4810-39-P